DEPARTMENT OF TRANSPORTATION

Federal Motor Carrier Safety Administration

[Docket No. FMCSA-2015-0397]

Commercial Driver's License: Oregon Department of Transportation; Application for Exemption, Correction

AGENCY: Federal Motor Carrier Safety Administration, DOT.

ACTION: Notice of final disposition; grant of application for exemption; correction.

SUMMARY: The Federal Motor Carrier Safety Administration published its decision in the Federal Register of April 5, 2016, to grant the Oregon Department of Transportation (ODOT) and all other State Driver Licensing Agencies (SDLAs), a limited exemption from the commercial learner's permit (CLP) requirement in 49 CFR 383.25(c). Due to an error, the exemption was not extended to include the CLP requirement in 49 CFR 383.73(a)(2)(iii). Today's correction makes it clear that the exemption granted to ODOT and other SDLAs from the CLP requirements includes 49 CFR 383.25(c) and 49 CFR 383.73(a)(2)(iii).

DATES: Effective on November 29, 2016.

FOR FURTHER INFORMATION CONTACT: Mr. Tom Yager, Chief, FMCSA Driver and Carrier Operations Division; Office of Carrier, Driver and Vehicle Safety Standards; Telephone: 614-942-6477. Email: MCPSD@dot.gov. If you have questions on viewing or submitting material to the docket, contact Docket Services, telephone (202) 366-9826.

SUPPLEMENTARY INFORMATION:

Correction

In the Federal Register of April 5, 2016, correct pages 19703 and 19705 as follows: On page 19703 in the first column, correct the Summary first sentence to read, “FMCSA announces its decision to grant the Oregon Department of Transportation (ODOT) a limited exemption from the commercial learner's permit (CLP) requirements in 49 CFR 383.25(c) and 49 CFR 383.73(a)(2)(iii).” On page 19705 in the first column, correct Section V. FMCSA Response and Decision first sentence to read, “The FMCSA has evaluated ODOT's application on its merits following full consideration of the comments submitted to the docket, and has decided to grant the exemption from 49 CFR 383.25(c) and 49 CFR 383.73(a)(2)(iii) for a period of 2 years.”

Issued on: November 22, 2016.
Larry W. Minor,
Associate Administrator for Policy.

[FR Doc. 2016-28685 Filed 11-28-16; 8:45 am]

BILLING CODE 4910-EX-P